DEPARTMENT OF ENERGY

Federal Energy Regulatory Commission

[Docket No. EL19-75-000]

EDF Renewables, Inc., Enel Green Power North America, Inc., NextEra Energy Resources, LLC, Southern Power Company v. Southwest Power Pool, Inc.; Notice of Complaint

Take notice that on May 9, 2019, pursuant to sections 206, 306 and 309 of the Federal Power Act (FPA), 16 U.S.C. 824e, 825e and 825h and Rule 206 of the Rules of Practice and Procedure of the Federal Energy Regulatory Commission (Commission), 18 CFR 385.206 (2019), EDF Renewables, Inc., Enel Green Power North America, Inc., NextEra Energy Resources, LLC and Southern Power Company (collectively, Joint Complainants) filed a formal complaint against Southwest Power Pool, Inc. (SPP or Respondent) alleging that SPP has failed to implement Attachment Z2 of the SPP Tariff. The Complaint requests that the Commission order relief under Attachment Z2 of the SPP Tariff, all as more fully explained in the complaint.

Complainants certify that a copy of the Complaint was served on the contacts for SPP as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 29, 2019.

Dated: May 9, 2019.
Kimberly D. Bose,
Secretary.

[FR Doc. 2019-10047 Filed 5-14-19; 8:45 am]

BILLING CODE 6717-01-P